NATIONAL TRANSPORTATION SAFETY BOARD

Sunshine Act Meeting

TIME AND DATE: 9:30 a.m., April 21, 2009.

PLACE: NTSB Conference Center, 429 L'Enfant Plaza, SW., Washington, DC 20594.

STATUS: The one item is open to the public.

MATTER TO BE CONSIDERED:

8024A Highway Accident Report—Single-Vehicle Accident, Motorcoach Run-Off-the-Road and Rollover, U.S. Route 163, Mexican Hat, Utah, January 6, 2008 (HWY-08-MH-012).

NEWS MEDIA CONTACT: Telephone: (202) 314-6100.

The press and public may enter the NTSB Conference Center one hour prior to the meeting for set up and seating.

Individuals requesting specific accommodations should contact Rochelle Hall at (202) 314-6305 by Friday, April 17, 2009.

The public may view the meeting via a live or archived webcast by accessing a link under “News & Events” on the NTSB home page at http://www.ntsb.gov.

FOR FURTHER INFORMATION CONTACT: Vicky D'Onofrio, (202) 314-6410.

Dated: April 14, 2009.
Vicky D'Onofrio,
Federal Register Liaison Officer.

[FR Doc. E9-8863 Filed 4-14-09; 4:15 pm]

BILLING CODE 7533-01-P